DEPARTMENT OF LABOR

Employment and Training Administration

[TA-W-61,942]

Best Textiles International, Ltd, Formerly Known as Best Manufacturing, Cordele Division, Cordele, GA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 10, 2007, applicable to workers of Best Textiles International, Ltd, Cordele, Georgia. The notice was published in the Federal Register on September 27, 2007 (72 FR 54939).

At the request of the State agency, the Department reviewed the certification for workers of the subject firm. The workers are engaged in the production of table linens, aprons and chef wear.

New information shows that the subject firm originally named Best Manufacturing, Cordele Division, was renamed Best Textiles International, Ltd due to a change in ownership. Workers separated from employment at the subject firm had their wages reported under a separate unemployment insurance (UI) tax account for Best Manufacturing.

Accordingly, the Department is amending the certification to properly reflect this matter.

The intent of the Department's certification is to include all workers of Best Textiles International, Ltd who were adversely affected by increased company imports.

Of note, the decision dated September 10, 2007 referenced that the workers were under an existing certification that expired on July 8, 2005. However, the actual TAA expiration date should have been represented as July 8, 2007.

The amended notice applicable to TA-W-61,942 is hereby issued as follows:

All workers of Best Textiles International, Ltd, formerly known as Best Manufacturing, Cordele Division, Cordele, Georgia, who became totally or partially separated from employment on or after July 9, 2007, through September 10, 2009, are eligible to apply for adjustment assistance under Section 223 of the Trade Act of 1974, and are also eligible to apply for alternative trade adjustment assistance under Section 246 of the Trade Act of 1974.

Signed at Washington, DC this 11th day of October 2007.
Elliott S. Kushner
Certifying Officer, Division of Trade Adjustment Assistance.

[FR Doc. E7-20403 Filed 10-16-07; 8:45 am]

BILLING CODE 4510-FN-P